DEPARTMENT OF HOUSING AND URBAN DEVELOPMENT

[Docket No. FR-7070-N-70]

30-Day Notice of Proposed Information Collection: Allocation of Operating Fund Grant Under the Operating Fund Formula: Data Collection

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: November 15, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Clearance Officer, REE, Department of Housing and Urban Development, 451 7th Street SW, Room 8210, Washington, DC 20410-5000; email: PaperworkReductionActOffice@hud.gov.

FOR FURTHER INFORMATION CONTACT: Colette Pollard, Reports Management Officer, REE, Department of Housing and Urban Development, 451 7th Street SW, Washington, DC 20410; email Colette.Pollard@hud.gov or telephone 202-402-3400. This is not a toll-free number. HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION: This notice informs the public that HUD is seeking approval from OMB for the information collection described in Section A.

The Federal Register notice that solicited public comment on the information collection for a period of 60 days was published on May 30, 2023 at 88 FR 34514.

A. Overview of Information Collection

Title of Information Collection: Allocation of Operating Funds under the Operating Fund Formula: Data Collection.

OMB Approval Number: 2577-0029.

Type of Request: Extension of currently approved collections.

Form Number: HUD-52722, HUD-52723, and HUD-52719.

Description of the need for the information and proposed use: Public Housing Agencies (PHAs) use this information in budget submissions which are reviewed and approved by HUD field offices as the basis for obligating the operating fund grant. This information is necessary to calculate the eligibility for the operating fund grant under the Operating Funding Program regulations, as amended. The Operating Fund is designed to provide the amount of operating funds needed for well-managed PHAs. PHAs submit the information electronically with these forms.

HUD collects information for the HUD-52723 and HUD-52722 through web-based forms in the Operating Fund Web Portal. HUD discontinued using VBA enhanced Excel tools to collect this data after CY 2022. Web-based forms improve the availability of the forms to PHAs, improve data integrity, and secure transfer of the data from the PHA to HUD. Web-based forms should not increase the burden to complete.

HUD executed the collection of the HUD-52719: Small Rural Frozen Rolling Base (SRFRB) Election and Revision form to implement Section 209(b) of the Economic Growth, Regulatory Relief, and Consumer Protection Act, Public Law 115-174. SRFRB allows eligible small and rural PHAs to freeze a utility's three-year rolling base consumption that is used to calculate Operating Fund grants from one to twenty years. With this form PHAs elect to participate, select the utility, calculate rolling base consumption, and select the term.

Total Estimated Burdens
Information collection | Number of respondents | Frequency of response | Responses per annum | Burden hour per response | Annual burden hours | Hourly cost per response | Annual cost
HUD-52723 | 6,200 | 1 | 0.33 | 2,046 | 2,046 | $37.66 | $98,067
HUD-52722 | 6,200 | 1 | 0.42 | 2,604 | 2,604 | 37.66 | 77,052
HUD-52719 | 30 | 1 | 1 | 1 | 30 | 37.66 | 1,130
Total |  |  |  | 4,650 |  |  | 176,249

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comments in response to these questions.

C. Authority

Section 3507 of the Paperwork Reduction Act of 1995, 44 U.S.C. Chapter 35.

Colette Pollard,
Department Reports Management Officer, Office of Policy Development and Research, Chief Data Officer.

[FR Doc. 2023-22756 Filed 10-13-23; 8:45 am]

BILLING CODE 4210-67-P